DEPARTMENT OF HEALTH AND HUMAN SERVICES

Charter Renewal for the Advisory Committee on Organ Transplantation

AGENCY: Health Resources and Services Administration (HRSA), The Department of Health and Human Services (HHS).

ACTION: Notice of charter renewal.

SUMMARY: HHS is hereby giving notice that the Advisory Committee on Organ Transplantation (ACOT) has been rechartered. The effective date of the renewed charter is August 31, 2018.

FOR FURTHER INFORMATION CONTACT: Robert Walsh, Executive Secretary, Advisory Committee on Organ Transplantation, Health Resources and Services Administration, Department of Health and Human Services, Room 08W60, 5600 Fishers Lane, Rockville, Maryland 20857. Phone: (301) 443-6839; fax: (301) 594-6095; email: rwalsh@hrsa.gov.

SUPPLEMENTARY INFORMATION: The ACOT was authorized by section 121.12 of the amended Final Rule of the Organ Procurement and Transplantation Network (OPTN) (42 CFR part 121). In accordance with the Federal Advisory Committee Act (FACA), Public Law 92-463, it was initially chartered on September 1, 2000, and was renewed at the appropriate intervals.

The ACOT provides advice to the Secretary on all aspects of organ donation, procurement, allocation, and transplantation, and on such other matters that the Secretary determines. The recommendations of the ACOT will facilitate the Department's efforts to oversee the Organ Procurement and Transplantation Network (OPTN), as set forth in the National Organ Transplant Act of 1984, as amended.

The charter renewal for the ACOT was approved on August 31, 2018, which will also stand as the filing date. Renewal of the ACOT charter gives authorization for the Committee to operate until August 31, 2020.

A copy of the ACOT charter is available on the ACOT website at: http://www.organdonor.gov/legislation/advisory.html. A copy of the charter can also be obtained by accessing the FACA database that is maintained by the Committee Management Secretariat under the General Services Administration. The website for the FACA database is http://www.facadatabase.gov/.

Amy P. McNulty,
Acting Director, Division of the Executive Secretariat.

[FR Doc. 2018-19454 Filed 9-6-18; 8:45 am]

BILLING CODE 4165-15-P